NUCLEAR REGULATORY COMMISSION

[Docket No. 40-1162; NRC-2023-0076]

Western Nuclear, Inc.; Split Rock Site

AGENCY: Nuclear Regulatory Commission.

ACTION: License termination and transfer; issuance.

SUMMARY: The U.S. Nuclear Regulatory Commission (NRC) is noticing the establishment of the U.S. Department of Energy (DOE) as the long-term custodian of the Split Rock site and the transfer of the Split Rock site to DOE, under the general license provisions of NRC's regulations. The NRC also notices the termination of Western Nuclear, Inc.'s (WNI) Wyoming Source Material License No. WYSUA-0056 for the Split Rock uranium mill tailings site in Jeffrey City, Wyoming.

DATES: The license termination of Wyoming Source Material License No. WYSUA-0056 occurred on October 31, 2023. The transfer of the Split Rock site to DOE is effective November 7, 2023.

ADDRESSES: Please refer to Docket ID NRC-2023-0076 when contacting the NRC about the availability of information regarding this document. You may obtain publicly available information related to this document using any of the following methods:

• Federal Rulemaking Website: Go to https://www.regulations.gov and search for Docket ID NRC-2023-0076. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Tom Lancaster, Office of Nuclear Material Safety and Safeguards, U.S. Nuclear Regulatory Commission, Washington, DC 20555-0001; telephone: 301-415-6563; email: Thomas.Lancaster@nrc.gov.

SUPPLEMENTARY INFORMATION:

I. Background

The Split Rock site is approximately 2 miles northeast of Jeffrey City, Wyoming, in southeastern Fremont County. The Split Rock site is regulated under title II of the Uranium Mill Tailings Radiation Control Act of 1978 (title 42 United States Code section 7901 [42 U.S.C. 7901]).

II. Discussion

On October 30, 2023, the NRC concurred with the State of Wyoming's determination that applicable standards and requirements for the protection of public health, safety and the environment had been met for the WNI Split Rock uranium mill tailings disposal site. WNI and the U.S. Bureau of Land Management transferred ownership of land at the Split Rock site to the DOE, as required by part 40 of title 10 of the Code of Federal Regulations (10 CFR), appendix A, criterion 11, prior to termination of WNI's Source Material License by the State of Wyoming. By letter dated August 11, 2023, the DOE submitted the final Long-Term Surveillance Plan (LTSP) for the Split Rock disposal site for review and acceptance by the NRC. The NRC staff completed its technical review of the LTSP and determined that the LTSP satisfies the long-term surveillance requirements in 10 CFR part 40, appendix A, criterion 12, and 10 CFR 40.28, for the Split Rock tailings disposal site. Additionally, the NRC prepared an environmental assessment (EA) for this LTSP in accordance with its regulations. Based on the EA, the NRC has concluded that a finding of no significant impact (FONSI) is appropriate. The FONSI was noticed in the Federal Register on October 30, 2023 (88 FR 74211).

III. Notice of Approval

Accordingly, notice is hereby given that the NRC has accepted the LTSP for the Split Rock site. As documented in NRC's letter dated November 7, 2023, acceptance of this LTSP established the DOE as the long-term custodian and caretaker of the Split Rock site under the general license specified in 10 CFR 40.28. The State of Wyoming terminated WNI's Source Material License No. WYSUA-0056 for the Split Rock site on October 31, 2023, and notified WNI by letter dated October 31, 2023. The NRC finds these actions complete all requirements for closure of the Split Rock site under the Uranium Mill Tailings Radiation Control Act of 1978, as amended.

IV. Availability of Documents

The documents identified in the following table are available to interested persons through one or more of the following methods, as indicated.

Document description | ADAMS accession No.
Letter dated October 30, 2023, from B. VonTill, NRC, to B. Obrien, Wyoming Department of Environmental Quality, regarding NRC concurrence of meeting all applicable standards for the WNI Minerals Corporation Split Rock Uranium Mill Tailings Disposal Site | ML23271A217.
Letter dated August 11, 2023, from N. Keller, DOE, to T. Lancaster, NRC, submitting the final Long-Term Surveillance Plan for the Split Rock Disposal Site, Jeffrey City, Wyoming | ML23223A152 (Package).
Letter dated November 7, 2023, from B. VonTill, NRC, to J. Glascock, DOE, regarding acceptance of the Long-Term Surveillance Plan for the WNI Minerals Corporation Split Rock Uranium Mill Tailings Disposal Site | ML23271A189 (Package).
Letter dated October 31, 2023, from K. Wendtland and T. Parfitt, Wyoming Department of Environmental Quality, to L. Corte, WNI, regarding termination of WNI's Source Material License No. WYSUA-0056 | ML23311A036.

Dated: November 9, 2023.
For the Nuclear Regulatory Commission.
Marc S. Ferdas,
Acting Deputy Director, Division of Decommissioning, Uranium Recovery and Waste Programs, Office of Nuclear Material Safety and Safeguards.

[FR Doc. 2023-25213 Filed 11-14-23; 8:45 am]

BILLING CODE 7590-01-P